POSTAL SERVICE

Privacy Act of 1974; System of Records

AGENCY: Postal Service™.

ACTION: Notice of modification to an existing system of records.

SUMMARY: The Postal Service proposes to revise the existing system of records entitled “Emergency Management Records 500.300.” The modifications amend an existing routine use to further clarify how records relating to USPS employees and individuals responding to, or affected by, natural disasters or manmade hazards are disclosed to government agencies or disaster relief organizations.

DATES: The revision will become effective without further notice on August 18, 2008 unless comments received on or before that date result in a contrary determination.

ADDRESSES: Comments may be mailed or delivered to the Records Office, United States Postal Service, 475 L'Enfant Plaza, SW., Room 5821, Washington, DC 20260-2200. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service has reviewed its systems of records and has determined that the Emergency Management Records system should be revised to modify existing routine uses of records maintained in the system, including categories of individuals, categories of records in the system, and the purposes of such uses. Routine use for categories of individuals covered by the system will be revised to provide clarification on how the information is disclosed during natural disasters and manmade hazards.

The Postal Service does not expect this amended notice to have any adverse effect on individual privacy rights.

“Privacy Act System of Records USPS 500.300” was originally published in the Federal Register on April 29, 2005 (70 FR 22518).

The Postal Service proposes amending the system as shown below:

USPS 500.300 Emergency Management Records

CATEGORIES OF INDIVIDUALS COVERED BY THE SYSTEM; CATEGORIES OF RECORDS IN THE SYSTEM; PURPOSES; ROUTINE USES OF RECORDS MAINTAINED IN THE SYSTEM, INCLUDING CATEGORIES OF USERS AND PURPOSES OF SUCH USES, RETENTION AND DISPOSAL, SYSTEM MANAGER(S) AND ADDRESS, NOTIFICATION PROCEDURE, AND RECORD SOURCE CATEGORIES:

Categories of Individuals Covered by the System:

* * * * *

[Renumber existing item 2 as 3, add a new item 2 and 4 to read as follows:]

2. Household member of USPS employees and other individuals having emergency management responsibilities officially designated by the Postal Service to mitigate, prepare for, respond to, or recover from any natural disaster or manmade hazard.

4. Individuals whose names have been provided to the Postal Service by government agencies or disaster relief organizations as a result of a disaster or manmade hazard.

Categories of Records in the System:

* * * * *

[Revise items 2 and 4 to read as follows:]

2. Medical fitness and surveillance information: Records related to medical documentation such as receipt of prophylaxis, tests, including determinations of fitness to wear protective equipment, and surveillance for exposure to hazards.

* * * * *

4. Evacuee information: Records of individuals who are impacted by natural disasters or manmade hazard, such as name; postal assignment information (if USPS employee); home, work, and emergency contact information; home and work address; location in facility and activities prior to evacuation; route of exit from facility; rallying point; and emergency medical treatment administered to evacuees.

Purpose(s):

[Revise to read as follows:]

1. To permit collaboration among officially designated individuals who are responsible for mitigation of, preparation for, response to, and recovery from any natural disaster or manmade hazard involving the Postal Service.

2. To satisfy federal requirements for the training, fitness testing, and medical surveillance of individuals in response to a natural disaster or manmade hazard involving the Postal Service.

3. To test for the exposure of individuals to hazards.

* * * * *

5. To assess the likelihood of an individual's exposure to a hazard and to contact the individual with important health-related information.

[Insert new item 6 as follows:]

6. To provide information about disaster recovery programs and services to individuals affected by a natural disaster or manmade hazard.

Routine Uses of Records Maintained in the System, Including Categories of Users and the Purposes of Such Uses:

Standard routine uses 1 through 9 apply.

[Revise to read as follows:]

a. Medical records may be disclosed to an individual's private treating physician, to medical personnel retained by USPS, and to public health agencies to provide medical examinations, medications, or treatment to individuals covered by this system of records.

* * * * *

Retention and Disposal:

* * * * *

[Revise to read as follows:]

2. Medical documentation including fitness and medical surveillance information is retained 30 years from the date of collection.

3. Evacuee information is retained 5 years from the date of collection.

The System Manager(s) and Address:

[Add the following entries:]

Chief Postal Inspector, United States Postal Inspection Service, United States Postal Service, 475 L'Enfant Plaza, SW., Washington, DC 20260.

Senior Vice President, Intelligent Mail and Address Quality, United States Postal Service, 475 L'Enfant Plaza, SW., Washington, DC 20260.

Manager, Safety, Security, Emergency Planning, United States Postal Service Office of Inspector General, 1735 N. Lynn Street, Arlington, VA 22209.

[Delete the following entry:]

The Vice President, Emergency Preparedness.

Notification Procedure:

[Revise to read as follows:]

Current and former employees and contractors wanting to know if information about them is maintained in this system of records must address inquiries to the facility head where currently or last employed. Headquarters employees or contractors must submit inquiries to the chief postal inspector. Requests must include full name, Social Security Number or Employee Identification Number, and employment or contract dates. Individuals from whom evacuee information may have been collected must address inquiries to head of the facility from which they were evacuated. Household members of current or former field employees and other individuals having emergency management responsibilities officially designated by the Postal Service must address inquiries to the facility head where the postal employee in their household is currently or was last employed. Household members of current or former Headquarters employees and other individuals having emergency management responsibilities officially designated by the Postal Service must submit inquiries to the Chief Postal Inspector.

The Record Source Categories:

[Revise to read as follows:]

Employees; contractors; medical staff of the Postal Service; designated contractors; public health agencies; emergency response agencies, providers, and first responders; individuals who are evacuated in the event of a natural disaster or manmade hazard; and household members of USPS employees and other individuals having emergency management responsibilities officially designated by the Postal Service.

* * * * *

Neva R. Watson,
Attorney, Government Relations, FOIA, and Privacy.

[FR Doc. E8-16286 Filed 7-16-08; 8:45 am]

BILLING CODE 7710-12-P